DEPARTMENT OF HEALTH AND HUMAN SERVICES

Request for Nominations, Technical Review Panel on the Medicare Trustees Reports

AGENCY: Department of Health and Human Services, Office of the Assistant Secretary for Planning and Evaluation.

ACTION: Notice of Reestablishment of the Technical Review Panel on the Medicare Trustees Reports and Request for Nominations.

SUMMARY: In accordance with the provisions of FACA, and after consultation with the General Services Administration (GSA), the Secretary of Health and Human Services (HHS) has determined that the reestablishment of the Technical Review Panel on the Medicare Trustees Reports is in the public interest. This Panel shall advise the HHS Secretary about the econometric and actuarial techniques and economic assumptions utilized in the Hospital Insurance (HI) and Supplementary Medical Insurance (SMI) Trust Fund reports, thus enhancing her ability to fulfill duties and responsibilities imposed by the PHSA (42 U.S.C. 201 et seq.)

DATES: Submit nominations on or before March 7, 2016.

ADDRESSES: Office of the Assistant Secretary for Planning and Evaluation, Room 405-F, Humphrey Building, Department of Health and Human Services, Washington, DC 20201.

FOR FURTHER INFORMATION CONTACT: Donald T. Oellerich, Ph.D., Department of Health and Human Services; Telephone (202) 690-8410, email Don.Oellerich@hhs.gov.

SUPPLEMENTARY INFORMATION: The Board of Trustees of the Medicare Trust Funds report annually on the financial condition of the Hospital Insurance (HI) and Supplementary Medical Insurance (SMI) trust funds. These reports describe the trust funds' current and projected financial condition over the “short term,” or next decade, and the “long term” (75+ years). The Medicare Board of Trustees has requested that the Secretary of Health and Human Services (who is one of the Trustees) establish a panel of technical experts to review the methods used in the HI and SMI annual reports. The Secretary reestablished the Technical Review Panel on the Medicare Trustees Reports when she signed the charter on February 3, 2016.

Objectives and Scope of Activities

The Technical Review Panel on the Medicare Trustees Reports shall counsel the HHS Secretary regarding the Hospital Insurance and Supplementary Medical Insurance Trust Fund annual reports. The panel's duties shall include, but not be limited to, a review of the following topics: The long-term rate of growth, the sustainability of key Medicare cost growth factors under current law, future changes in utilization of care, the transition of short term to long range projections and current and alternate projection methodologies including the high and low cost options. The panel may also examine other methodological issues identified by panelists. The Panel's final report and its recommendations to the Secretary shall be only advisory in nature.

Membership and Designation

The Secretary is soliciting nominations for appointment to the 9-member Technical Review Panel from among members of the general public who are experts in health economics, actuarial science, statistics, public policy, or other fields that could inform and substantively contribute to panel deliberations. Each member of the panel shall be appointed for a term of 2 years.

Nominations should be submitted to Donald T. Oellerich, U.S. Department of Health and Human Services, Office of the Assistant Secretary for Planning and Evaluation, 200 Independence Avenue SW., Room 405F, Washington, DC 20201 no later than <insert 15 days after publication>. When selecting members for this Technical Review Panel, HHS will give close attention to equitable geographic distribution and to minority and female representation so long as the effectiveness of the Panel is not impaired. Appointments shall be made without discrimination on the basis of age, race, ethnicity, gender, sexual orientation, HIV status, disability, and cultural, religious, or socioeconomic status.

The Secretary, or her designee, shall appoint one of the members to serve as the Chair. Members shall be invited to serve for the duration of the panel. If members are selected from the Federal sector, they will be classified as regular government employees. Members who are selected from the public and/or private sector will be classified as special government employees. Any vacancy on the Technical Review Panel shall not affect its powers, but shall be filled in the same manner as the original appointment was made. An individual chosen to fill a vacancy shall be appointed for the unexpired term of the member that is replaced.

Administrative Management and Support

HHS will provide funding and administrative support for the Technical Review Panel to the extent permitted by law within existing appropriations. Staff will be assigned to support the activities of the Panel. Management and oversight for support services provided to the Panel will be the responsibility of the Office of the Assistant Secretary for Planning and Evaluation and the Office of the Actuary, Centers for Medicare & Medicaid Services (CMS). All executive departments and agencies and all entities within the Executive Office of the President shall provide information and assistance to the Panel as the Chair may request for purposes of carrying out the Panel's functions, to the extent permitted by law.

A copy of the Panel's charter can be obtained from the designated contacts or by accessing the FACA database that is maintained by the GSA Committee Management Secretariat. The Web site for the FACA database is http://facadatabase.gov/.

Authority: The Technical Review Panel on the Medicare Trustees Reports is authorized by Sec. 222 of the Public Health Service Act (PHSA), Public Law 92-463. The Panel is governed by provisions of the Federal Advisory Committee Act (FACA), as amended (5 U.S.C., App. 2), which sets forth standards for the formation and use of advisory committees.

Dated: February 10, 2016.
Richard G. Frank,
Assistant Secretary for Planning and Evaluation.

[FR Doc. 2016-03406 Filed 2-18-16; 8:45 am]

BILLING CODE 4150-05-P